FEDERAL MARITIME COMMISSION

[Docket No. 24-10]

TZ SSE Buyer, LLC, Complainant v. Yang Ming Marine Transport Corp., Respondent; Notice of Filing of Amended Complaint

Served: October 8, 2024.

Notice is given that an amended complaint has been filed with the Federal Maritime Commission (the “Commission”) by TZ SSE Buyer, LLC (the “Complainant”) against Yang Ming Marine Transport Corp. (the “Respondent”). Complainant states that the Commission has jurisdiction over the amended complaint pursuant to 46 U.S.C. 41301 through 41309 and personal jurisdiction over the Respondent as an ocean common carrier, as defined in 46 U.S.C. 40102(18), that has entered into a service contract, as defined in 46 U.S.C. 40102(21), with the original complainants.

Complainant is a Delaware limited liability company with a principal place of business in Toledo, Ohio. Impact Products, LLC and Safety Zone, LLC (the “original complainants”) filed the verified complaint in this proceeding on February 7, 2024, and subsequently filed for Chapter 11 bankruptcy and sold the claims asserted in this proceeding to Complainant. The original complainants are shippers as this term is defined under 46 U.S.C. 40102(23) with offices in Ohio, Tennessee, and Connecticut, among other locations.

Complainant identifies Respondent as a company existing under the laws of Taiwan with a principal place of business in Keelung, Taiwan and as a global ocean carrier who acts in the United States by and through its agent, Yang Ming (America) Corp., a Texas company with an office in Houston, Texas.

Complainant alleges that Respondent violated 46 U.S.C. 41102(c) and 41104(a)(10) and 46 CFR 545.5. Complainant alleges these violations arose from assessment of demurrage, detention, per diem, and yard storage charges during periods of time in which the charges were not just or reasonable because of circumstances outside the control of the original parties and their agents and service providers, and from the acts or omissions of the Respondent that led to the assessment of these charges.

An answer to the amended complaint must be filed with the Commission as provided in Chief Administrative Law Judge Erin M. Wirth's October 4, 2024, Order Granting Motion for Leave to File Amended Complaint. The full text of the amended complaint and this order can be found in the Commission's electronic Reading Room at https://www2.fmc.gov/readingroom/proceeding/24-10/.

The initial decision of the presiding judge shall be issued by February 14, 2025, and the final decision of the Commission shall be issued by August 29, 2025.

David Eng,
Secretary.

[FR Doc. 2024-23845 Filed 10-15-24; 8:45 am]

BILLING CODE 6730-02-P